DEPARTMENT OF HEALTH AND HUMAN SERVICES

Centers for Medicare & Medicaid Services

42 CFR Chapter IV

Office of the Secretary

45 CFR Subtitle A

[CMS-9928-CN]

RIN 0938-ZB39

Reducing Regulatory Burdens Imposed by the Patient Protection and Affordable Care Act & Improving Healthcare Choices To Empower

AGENCY: Centers for Medicare & Medicaid Services (CMS), HHS.

ACTION: Request for information; correction.

SUMMARY: This document corrects an error that appeared in the request for information notice published in the Federal Register on June 12, 2017 entitled “Reducing Regulatory Burdens Imposed by the Patient Protection and Affordable Care Act & Improving Healthcare Choices to Empower.”

DATES: This correction is effective June 26, 2017.

FOR FURTHER INFORMATION CONTACT: Chanda McNeal (301) 492-4132 or Jamaca Mitchell (301) 492-4177.

SUPPLEMENTARY INFORMATION:

I. Background

In FR Doc. 2017-12130 of June 12, 2017 (82 FR 26885), there was an error that is identified and corrected in the Correction of Errors section of this correction notice. The correction in this document is effective as if it had been included in the document published on June 12, 2017. Accordingly, the correction is effective (June 26, 2017).

II. Summary of Errors

On page 26886, we inadvertently included the incorrect contact information in the FOR FURTHER INFORMATION CONTACT section. Therefore, we are correcting this error to provide the public with the correct point of contact's name and phone number for issues related to the June 12, 2017 request for information notice.

III. Correction of Errors

In FR Doc. 2017-12130 of June 12, 2017 (82 FR 26885), make the following correction.

On page 26886, in the first column, under the FOR FURTHER INFORMATION CONTACT, the contact name and phone number for “Vanessa Jones, (202) 690-700” is deleted and replaced with, “Chanda McNeal, (301) 492-4132, or Jamaca Mitchell, (301) 492-4177.”

Dated: June 21, 2017.
Ann C. Agnew,
Executive Secretary to the Department, Department of Health and Human Services.

[FR Doc. 2017-13417 Filed 6-26-17; 8:45 am]

BILLING CODE 4120-01-P